DEPARTMENT OF TRANSPORTATION

Federal Aviation Administration

Aging Transport Systems Rulemaking Advisory Committee; Meeting

AGENCY: Federal Aviation Administration (FAA), DOT.

ACTION: Notice of public meeting.

SUMMARY: This notice announces a public meeting of the FAA's Aging Transport Systems Rulemaking Advisory Committee.

DATES: The meeting will be held January 17-18, 2001, beginning at 9 a.m. on January 17. Arrange for oral presentations by January 12.

ADDRESSES: The meeting will be at the Airbus Training Center, 4355 NW. 36th Street, Miami Springs, Florida 33166.

FOR FURTHER INFORMATION CONTACT: Gerri Robinson, Office of Rulemaking, ARM-24, FAA, 800 Independence Avenue, SW., Washington, DC 20591, Telephone (202) 267-9078, FAX (202) 267-5075, or e-mail at gerri, robinson@faa.gov.

SUPPLEMENTARY INFORMATION: Notice is hereby given of a meeting of the Aging Transport Systems Remaking Advisory Committee to be held at the Airbus Training Center, 4355 NW. 36th Street, Miami Springs, Florida 33166.

The agenda will include:

Day 1

• Opening remarks

• Review Task 1—Intrusive Inspections Report

• Review Task 3—Maintenance Criteria

• Review Task 5—Review Air Carrier Training

Day 2

• Aging Systems for Transport Category Airplanes in Part 91, 121, 125, 135 Operations

• New Taskings for ATSRAC

• FAA Enhanced Airworthiness Program for Airplane Systems Overview

If the Aging Transport Systems Rulemaking Advisory Committee approves of the draft working group reports for Tasks 1, 3 and 5, they will be forwarded to the FAA as formal recommendations.

Attendance is open to the interested public, but will be limited to the availability of meeting room space and telephone lines. Details for participating in the teleconference will be available after January 10 by contacting the person listed in the FOR FURTHER INFORMATION CONTACT section. Callers outside the Washington metropolitan area will be responsible or paying long distance charges.

The public must make arrangements by January 12, 2001, to present oral statements at the meeting. The public may present written statements to the committee at any time by providing 20 copies to the Executive Director, or by bringing the copies to the meeting. Public statements will only be considered if time permits. In addition, sign and oral interpretation as well as a listing device can be made available if requested 10 calendar days before the meeting.

Dated: Issued in Washington, DC on January 4, 2001.
Anthony F. Fazio,
Director, Office of Rulemaking.

[FR Doc. 01-714 Filed 1-9-01; 8:45 am]

BILLING CODE 4910-13-M